DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 18, 2013.

Interested persons are invited to submit written comments regarding the subject matter of the investigations to the Director, Office of Trade Adjustment Assistance, at the address shown below, not later than March 18, 2013.

The petitions filed in this case are available for inspection at the Office of the Director, Office of Trade Adjustment Assistance, Employment and Training Administration, U.S. Department of Labor, Room N-5428, 200 Constitution Avenue NW., Washington, DC 20210.

Signed at Washington, DC, this 27th day of February 2013.
Elliott S. Kushner,
Certifying Officer, Office of Trade Adjustment Assistance.

Appendix

23 TAA Petitions Instituted Between 2/18/13 and 2/22/13
TA-W | Subject firm (petitioners) | Location | Date of institution | Date of petition
82471 | Amantea Nonwovens, LLC (Company) | Cincinnati, OH | 02/19/13 | 02/18/13
82472 | Deutsch, TE Connectivity (Company) | Tullahoma, TN | 02/19/13 | 02/18/13
82473 | Cliffs Natural Resources/Northshore Mining (State/One-Stop) | Babbitt, MN | 02/19/13 | 02/15/13
82474 | Ames True Temper (Workers) | Lewistown, PA | 02/19/13 | 02/15/13
82475 | Sysco Portland (State/One-Stop) | Wilsonville, OR | 02/19/13 | 02/13/13
82476 | SuperValu Inc. (Company) | Pleasant Prairie, WI | 02/19/13 | 02/15/13
82477 | Google (Motorola Mobility Group) (Workers) | Libertyville and Plantation, IL | 02/19/13 | 02/14/13
82478 | Brayton International (Company) | High Point, NC | 02/19/13 | 02/15/13
82479 | Daimler Trucks North America LLC (Company) | Portland, OR | 02/19/13 | 02/18/13
82480 | Pexco LLC (Company) | West Columbia, SC | 02/20/13 | 02/05/13
82481 | HarperCollins Publishers (Company) | Scranton, PA | 02/20/13 | 02/19/13
82482 | ArcelorMittal (Union) | Georgetown, SC | 02/20/13 | 02/19/13
82483 | New Haven Register (State/One-Stop) | New Haven, CT | 02/20/13 | 02/19/13
82484 | SolarWorld Industries America Inc. and SolarWorld Americas (TA-W-82,484A) (Company) | Camarillo, CA | 02/20/13 | 01/08/13
82485 | Nestle Nutrition (State/One-Stop) | St. Louis Park, MN | 02/20/13 | 01/15/13
82486 | USG Corp./L&W Supply Corporation dba Calply (State/One-Stop) | Pico Rivera, CA | 02/21/13 | 02/20/13
82487 | Miller Welding & Machine Company (Company) | Brookville, PA | 02/21/13 | 02/20/13
82488 | Sierra Video Systems (Company) | Nevada City, CA | 02/21/13 | 02/20/13
82489 | LSI Corporation (State/One-Stop) | Fort Collins, CO | 02/21/13 | 02/20/13
82490 | Schaffner EMC Inc (State/One-Stop) | Goodrich, MI | 02/21/13 | 02/20/13
82491 | Allstate Insurance Company (State/One-Stop) | Roanoke, VA | 02/22/13 | 02/21/13
82492 | Creation Technologies (Company) | Lexington, KY | 02/22/13 | 02/21/13
82493 | Steelcase Inc. (Company) | Caledonia, MI | 02/22/13 | 02/21/13

[FR Doc. 2013-05459 Filed 3-7-13; 8:45 am]

BILLING CODE 4510-FN-P